DEPARTMENT OF THE INTERIOR

National Park Service

Privacy Act of 1974, as Amended; Amendment of a System of Records

AGENCY: National Park Service, Department of the Interior.

ACTION: Notice of major changes to a system of records.

SUMMARY: Pursuant to the provisions of the Privacy Act of 1974, as amended (5 U.S.C. 552a), the Department of the Interior is amending a system of records managed by the National Park Service (NPS). The changes are to the system of records “Case Incident Reporting System—NPS-19,” which is published in its entirety below.

DATES: 5 U.S.C. 552a(e)(11) requires that the public be provided a 30-day period in which to comment on the agency's intended use of the information in the system of records. The Office of Management and Budget, in its Circular A-130, requires an additional 10-day period (for a total of 40 days) in which to make these comments. Any persons interested in commenting on this amended system may do so by submitting comments in writing to the NPS Privacy Act Officer, 1849 C Street, NW., (2605) Washington, DC 20240. Comments will be received within 40 days of publication in the Federal Register will be considered. The proposed system will be effective at the end of the comment period unless comments are received which would require a contrary determination. The Department will publish a revised notice if changes are made based upon a review of comments received.

FOR FURTHER INFORMATION CONTACT: Don Coelho, Department of the Interior, National Park Service, Law Enforcement and Emergency Services, 1201 Eye Street, NW., Washington, DC 20005, 202-513-7084.

SUPPLEMENTARY INFORMATION: When originally published in the Federal Register, this system of records was identified as above. With the publishing of this notice, the address of the System Manager has also been changed to reflect an organizational change within NPS. The Routine Use section in this notice in (1) is changed to facilitate processing of requests for routine law enforcement reports to the subject of the incident or to those representing the subject or parties involved in the incident. This change will help to ensure that information needed to process claims is processed as expeditiously as possible to better serve the constituents of the National Park Service. Slight changes to existing Routine Uses found in (2) are made to better clarify the instances when releases can be made to legal and law enforcement entities.

A copy of the system notice for Interior/NPS-19, Case Incident Reporting System, is attached.

Dated: January 3, 2005.
Diane M. Cooke,
Privacy Act Officer, National Park Service.

INTERIOR/NPS-19

System name:

Case Incident Reporting System—National Park Service, NPS-19.

System location:

United States Park Police, 1100 Ohio Drive, SW., Washington, DC 20242. (2) New York Field Office, Bldg. #275, Floyd Bennet Field, Brooklyn, NY 11234. (3) San Francisco Field Office, Building 201, Fort Mason, San Francisco, CA 94123. (4) National Park areas and Regional Offices.

Categories of individuals covered by the system:

Individual complainants in criminal cases, witnesses, victims, suspicious persons, individuals investigated or arrested for criminal or traffic offenses, or involved in motor vehicle accidents, or certain types of non-criminal incidents.

Categories of records in the system:

Name of individual, date and case number of incident, type of offense or incident, fingerprint information, vehicle information, and location of incident.

Authority for maintenance of the system:

16 U.S.C. 1.4.

Routine uses of records maintained in the system, including categories of users and the purposes of such uses:

The primary uses of the records are: (1) To identify incidents in which individuals were involved, (2) to retrieve the report for information for the individual involved, such as accident reports and reports of found property, (3) to aid National Park Service (NPS) Law enforcement officers on a need to know basis, (4) as the basis for criminal investigations conducted by the United States Park Police, and commissioned law enforcement employees, and (5) to assist local, Regional, and Federal law enforcement agencies working in areas contiguous to areas under the jurisdiction of the NPS.

(1) Disclosure outside the Department for the purpose of providing information on traffic accidents, personal injuries, or the loss or damage of property may be made to:

a. Individuals involved in such incidents;

b. Persons injured in such incidents;

c. Owners of property damaged, lost or stolen in such incidents; and/or

d. These individuals' duly verified insurance companies, personal representatives, and/or attorneys.

The release of information under these circumstances should only occur when it will not:

a. Interfere with ongoing law enforcement proceedings;

b. Risk the health or safety of an individual; or

c. Reveal the identity of an informant or witness that has received an explicit assurance of confidentiality.

Social security numbers should not be released under these circumstances unless the social security number belongs to the individual requester.

(2) Disclosures outside the DOI may also be made:

a. To the Department of Justice, or to a court, adjudicative or other administrative body, or to a party in litigation before a court or adjudicative or administrative body, when:

i. One of the following is a party to the proceeding or has an interest in the proceeding:

1. The Department or any component of the Department;

2. Any Departmental employee acting in his or her official capacity;

3. Any Departmental employee acting in his or her individual capacity where the Department or the Department of Justice has agreed to represent the employee; and

ii. We deem the disclosure to be:

1. Relevant and necessary to the proceeding; and

2. Compatible with the purpose for which we compiled the information.

b. To the appropriate Federal agency that is responsible for investigating, prosecuting, enforcing or implementing a statute, rule, regulation or order, when we become aware of an indication of a violation or potential violation of the statute, rule, regulation, or order.

c. To a congressional office in response to a written inquiry to that office by the individual to whom the record pertains.

Disclosure to consumer reporting agencies:

Disclosures pursuant to 5 U.S.C. 552a(b)(12). Disclosures may be made from this system to consumer reporting agencies as defined in the Fair Credit Reporting Act (15 U.S.C. 1681a(f)) or the Federal Claims Collection Act of 1966 (31 U.S.C. 3701(a)(3)).

Policies and practices for storing, retrieving, accessing, retaining, and disposing of records in the system:

Storage:

Manual records, magnetic disk, diskette, personal computers, and computer tapes.

Retrievability:

Incident reports are retrievable from individual park or U.S. Park Police Field Offices only. No national repository exists. Manual reports are generally tracked by case number, date, location, type of offense or incident, ranger/officer name. Automated reports are retrievable by case number, date, time, location, types of offense or incident, ranger name, involved persons name(s), and vehicle data.

Safeguards:

Maintained with safeguards meeting the requirements of 43 CFR 2.51 for manual and automated records. Access to records in the system is limited to authorized personnel whose official duties require such access. Paper records are maintained in locked file cabinets and/or in secured rooms. Electronic records conform to Office of Management and Budget and Departmental guidelines reflecting the implementation of the Federal Information Security Management Act. The electronic data will be protected through user identification, passwords, database permissions and software controls. Such security measures will establish access levels for different types of users.

Retention and disposal:

Records are maintained for various lengths of time, depending of the seriousness of the incident. Records are retired to the Federal Records Center or purged, depending on the nature of the document.

System manager(s) and address:

(1) Commander, Information Management Section, U.S. Park Police, National Park Service, United States Department of the Interior, Washington, DC 20242; (2) Chief, Division of Law Enforcement & Emergency Services, National Park Service, United States Department of the Interior, Washington, DC 20005.

Record source categories:

Incident information obtained from individual(s) on whom information is maintained, to include victims, complainants, witnesses, suspects, suspicious persons, or otherwise involved, as well as investigating officials.

Systems exempted from certain provisions of the Act:

Under the general exemption authority provided by 5 U.S.C. 552a(j)(2), the Department of the Interior has adopted a regulation, 43 CFR 2.79(a), which exempts this system from all of the provisions of 5 U.S.C. 552a, and the regulations in 43 CFR, part 2, subpart D, except subsections (b), (c), and (1), and (2), (e)(4)(A) through (F), (e)(6), (7), (9), (10), and (11), and (i) of 5 U.S.C. 552a and the portions of the regulations in 43 CFR part 2, subpart D implementing these subsections. The reasons for adoption of this regulation are set out at 40 FR 37217 (August 26, 1975).

[FR Doc. 05-290 Filed 1-5-05; 8:45 am]

BILLING CODE 4312-52-P